DEPARTMENT OF THE TREASURY

Alcohol and Tobacco Tax and Trade Bureau

27 CFR Part 9

[Notice No. 70]

RIN 1513-AB21

Proposed Expansion of the San Francisco Bay Viticultural Area (2005R-413P)

AGENCY: Alcohol and Tobacco Tax and Trade Bureau, Treasury.

ACTION: Notice of proposed rulemaking.

SUMMARY: The Alcohol and Tobacco Tax and Trade Bureau proposes to expand the San Francisco Bay viticultural area in northern California. The proposed expansion would add 88 square miles to the viticultural area to its north in Solano County, California. We designate viticultural areas to allow vintners to better describe the origin of their wines and to allow consumers to better identify wines they may purchase. We invite comments on this proposed viticultural area expansion.

DATES: We must receive written comments on or before February 5, 2007.

ADDRESSES: You may send comments to any of the following addresses:

• Director, Regulations and Rulings Division, Alcohol and Tobacco Tax and Trade Bureau, Attn: Notice No. 70, P.O. Box 14412, Washington, DC 20044-4412.

• 202-927-8525 (facsimile).

• nprm@ttb.gov (e-mail).

• http://www.ttb.gov/wine/wine_rulemaking.shtml. An online comment form is posted with this notice on our Web site.

• http://www.regulations.gov (Federal e-rulemaking portal; follow instructions for submitting comments).

You may view copies of this notice, the petition, the appropriate maps, and any comments we receive about this proposal by appointment at the TTB Information Resource Center, 1310 G Street, NW., Washington, DC 20220. To make an appointment, call 202-927-2400. You may also access copies of the notice and comments online at http://www.ttb.gov/wine/wine_rulemaking.shtml.

See the Public Participation section of this notice for specific instructions and requirements for submitting comments, and for information on how to request a public hearing.

FOR FURTHER INFORMATION CONTACT: N.A. Sutton, Regulations and Rulings Division, Alcohol and Tobacco Tax and Trade Bureau, 925 Lakeville St., No. 158, Petaluma, California 94952; telephone 415-271-1254.

SUPPLEMENTARY INFORMATION

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the regulations promulgated under the FAA Act.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographical origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Petitioners may use the same procedure to request changes involving existing viticultural areas. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

San Francisco Bay and Central Coast Expansion Petition

Hestan Vineyards, LLC, of Vallejo, California, represented by Holland and Knight LLP of San Francisco, California, submitted a petition for an 88-square-mile boundary expansion that includes portions of Solano County to the north of the Carquinez Strait, and would apply to both the established San Francisco Bay viticultural area (27 CFR 9.157) and the established Central Coast viticultural area (27 CFR 9.75). After reviewing the petition, TTB determined that the evidence submitted in support of the proposed expansion of the San Francisco Bay viticultural area merits rulemaking action. On the other hand, for the reasons outlined below, TTB also determined that there was not sufficient documentation to proceed with rulemaking for the proposed Central Coast viticultural area expansion. Accordingly, TTB notified the petitioner of these determinations, and the petitioner agreed to proceed with only the San Francisco Bay viticultural area expansion portion of the petition.

Central Coast Viticultural Area Expansion

The petitioner stated in the petition: “Since the Central Coast AVA now includes the San Francisco Bay AVA, it would stand to reason that a county in the San Francisco Bay Area that encompasses all of the attributes of the other counties included in the San Francisco Bay AVA (i.e., coastal climate, geology, etc.), should also be included in the Central Coast AVA.” (TTB notes that the petitioner's use of the “San Francisco Bay Area” name reflects a larger geographical region than that included in the established San Francisco Bay viticultural area.) The expansive geographical boundaries of the established Central Coast viticultural area include a large region of California between the Pacific Ocean coastline to the west, the foothill elevations of the Coast Range to the east, Point Conception to the south, and the Carquinez Strait to the north.

TTB identified several concerns related to the lack of name association and the geographical boundaries between the San Francisco Bay area and Central Coast viticultural areas, as discussed below.

The petition lacked adequate name documentation to identify the proposed expansion area as part of the Central Coast viticultural area. The petitioner relied on the Central Coast viticultural area boundary line encumbrance of the San Francisco Bay viticultural area, without providing adequate, independent documentation to substantiate the “Central Coast” name usage in the proposed Solano County expansion area.

Consumer confusion could result if the Central Coast viticultural area boundary line were expanded to include an area north of the San Francisco and San Pablo Bays. The North Coast viticultural area (27 CFR 9.30) includes a portion of the San Pablo Bay west and north shoreline. Based on petition information and USGS maps, San Pablo Bay, which adjoins San Francisco Bay to its south, provides a geographically defining landmark between the established viticultural areas known as “Central Coast,” to the east and south, and “North Coast,” to the north and west.

San Francisco Bay Expansion Petition Evidence

The petitioner submitted the following information in support of the expansion of the San Francisco Bay viticultural area.

The San Francisco Bay area is a loosely bound region that includes other bodies of water, including San Pablo Bay, the Carquinez Strait, and Suisun Bay, the petition explains. USGS maps of the region show that San Francisco Bay joins San Pablo Bay to its north. Also, the Carquinez Strait connects the San Pablo Bay on the west with Suisun Bay on the east.

The petition states that the proposed expansion of the San Francisco Bay viticultural area, which is located adjacent to the north shores of San Pablo Bay and the Carquinez Strait, is an area historically, economically, and socially considered to be a part of the San Francisco Bay region. With the exception of the 4,480 acres, or 7 square miles, of the Carquinez Strait waterway, the petition explains, the entire proposed expansion area is on land in western Solano County.

A previous expansion of the San Francisco Bay viticultural area was published in the Federal Register on June 15, 2006, at 71 FR 34522. That expansion, effective July 17, increased the viticultural area by about 20,000 acres to the east in Alameda and Contra Costa Counties.

Name Evidence

A number of Government agencies and interest groups provide services to the nine counties in the recognized San Francisco Bay area, including the proposed expansion area in Solano County, as documented in the petition. Also, the Bay Area Council's Web site as of April 12, 2005, lists its nine counties, which include Solano, San Francisco, San Mateo, Santa Clara, Alameda, Contra Costa, Napa, Sonoma, and Marin, according to the petition. Other government agencies and interest groups using the same nine-county San Francisco Bay area parameter include the Association of Bay Area Governments, Bay Area Water Transit Authority, Bay Area Marketing Partnership, and Bay Area Economic Forum. Evidence of this usage was submitted with the petition.

The City of Vallejo, in southwest Solano County and within the proposed San Francisco Bay expansion boundary, serves as a key ferry transportation hub into the City of San Francisco, the petition documents. The Vallejo ferry system, as explained on the Bay Area Water Transit authority Web site, carries thousands of passengers each week from Solano County to the City of San Francisco and back.

In 1987, the State of California legislature passed a bill establishing the “San Francisco Bay Trail,” as noted on page 160 of San Francisco Bay: Portrait of an Estuary, by John Hart, and published by the University of California Press in 2003. Mr. Hart states that this trail system includes the Vallejo area of Solano County, which the petition notes is a part of the proposed San Francisco Bay viticultural area expansion.

Boundary Evidence

The proposed San Francisco Bay viticultural area expansion area comprises an 88-square-mile area that lies northeast of the City of San Francisco and San Francisco Bay, the petition explains. The proposed boundary line of the expansion area includes portions of San Pablo Bay's shoreline, the Solano and Napa Counties boundary line, a railroad track, and an interstate highway.

The proposed expansion area's northern boundary line follows the dividing line between Napa and Solano Counties and the Southern Pacific railroad track between Creston and Cordelia, as found on the USGS Cuttings Wharf and Cordelia maps. (TTB notes that the proposed expansion area boundary line coincides with various portions of the established boundaries for the North Coast, Napa Valley (27 CFR 9.23), and Solano County Green Valley (27 CFR 9.44) viticultural areas.)

Distinguishing Features

David G. Howell, PhD, Geologist at Stanford University in Palo Alto, California, Deborah Harden, PhD, Geologist at San Jose State University, San Jose, California, and Robert Bornstein, PhD, Meteorologist at San Jose State University, San Jose, California, combined efforts to provide petition evidence and documentation substantiating the northerly expansion of the San Francisco Bay viticultural area. The petition addresses the commonality of distinguishing features shared by the established San Francisco Bay viticultural area and the proposed northern expansion area.

Geology

The petition explains the similarity of geology, as a distinguishing feature, between the northern portion of the San Francisco Bay viticultural area and the proposed viticultural area expansion into Solano County. The Franklin Ridge landform of Contra Costa County, located in the northmost portion of the established San Francisco Bay viticultural area, according to the petition, continues northward into the proposed expansion area of Solano County. Franklin Ridge becomes known as Sulphur Mountain Ridge in Solano County, with the two ridges geologically joining beneath the Carquinez Strait, the petition states.

The north-south linkage between the established and proposed portions of the San Francisco Bay viticultural area relies on the continuity of the underlying geology, the petition states. The bedrock formations, earthquake faults, landforms, and soils of northern San Francisco Bay viticultural area, according to the petition, continue north into the proposed expansion area of Solano County.

The petition identifies the geological bedrock core of the proposed expansion area as Cretaceous sandstone and shale. This body of rock, the petition explains, extends northward from the Mount Diablo region in Contra Costa County into the proposed expansion area that includes parts of Solano County.

Soil

The two general categories of soils in the proposed expansion area are those formed in salt marshes and those formed in sandstone over shale bedrock on uplands, as described in the Soil Survey of Solano County, California, issued by the U.S. Department of Agriculture in 1977.

The Solano County general soil map documents that soils in salt marshes predominate in areas at a low elevation south of Vallejo. Also, the map shows that some of the soils in the predominant Joice, Reyes, Suisun, and Tamba soil series are mucks or peaty mucks.

The soils on uplands in Solano County are common to other parts of the San Francisco Bay viticultural area, including areas of Alameda and Santa Clara Counties, the petition explains. The most prevalent soils on uplands are in the Dibble and Los Osos series, and are moderately deep soils formed in weathered sandstone and shale under climatic conditions of seasonal soil moisture. The Altamont, Gaviota, and Millsholm series are also on uplands, according to the petitioner; the Rincon series are on alluvial fans.

Climate

The eastward and inland movement of marine air through the Golden Gate Gap, the petition explains, dominates the climate of the land areas adjacent to San Francisco Bay and San Pablo Bay and within the established viticultural area boundaries. Carquinez Strait joins San Pablo Bay at the bay's southeast corner, according to USGS maps, and receives the same marine air that cools the San Francisco and San Pablo Bays, the petitioner explains.

The Carquinez Strait funnels the marine air to both the north and south sides of its shoreline, according to the petition. (TTB notes that the current San Francisco Bay viticultural area's northern boundary line extends along the south shoreline of the Carquinez Strait, following the Contra Costa County northern boundary line to BM 15 on the Honker Bay USGS map.) The proposed expansion area extends northward to include all the Carquinez Strait and portions of Solano County, according to the written boundary description and maps provided with the petition.

The current expansion petition provides evidence and documentation of the marine airflow, and its cooling effect, traveling north and east from the Golden Gate, through the San Francisco Bay, San Pablo Bay, and Carquinez Strait, into the proposed inland expansion area. Although the proposed expansion area was not included in the original San Francisco Bay AVA petition, since the filing of the original petition, additional observation sites have become available that provide a more detailed analysis of the air flow patterns in and around the Carquinez Strait. Figures obtained from a new observation site that show the typical summer afternoon flow pattern on both sides of the Carquinez Strait clearly show that the Carquinez Strait is not the northern boundary of the influence of the marine air that has entered through the Golden Gate Gap.

The California Air Resources Board maps, submitted with the petition, show that the marine influence extends both north and south of the Carquinez Strait. A San Francisco Bay Air Quality Management District map shows air flow through the Carquinez Strait on July 31, 2000, a typical summer day. The airflow pattern through the Carquinez Strait brings the marine influence to the north, east, and south of the waterway, according to the map. Another computerized map of the air flow, also documented on July 31, 2000, shows the marine air entering San Francisco Bay through the Golden Gate Gap, then traveling through San Pablo Bay, and continuing east through the Carquinez Strait, north into Suisun Bay, and south into the Livermore Valley.

The information submitted with the petition concludes that the Carquinez Strait should not be considered the northernmost boundary of the San Francisco Bay viticultural area. Marine air, which is a significant distinguishing climatic characteristic of the San Francisco Bay viticultural area and region, is also significant in the proposed expansion area, according to the petition.

Boundary Description

See the narrative boundary description of the petitioned-for viticultural area expansion in the proposed regulatory text amendment published at the end of this notice.

Maps

The petitioner provided the required maps, which are listed below in the proposed regulatory text amendment.

Impact on Current Wine Labels

The proposed expansion of the San Francisco Bay viticultural area will not affect currently approved wine labels. The approval of this proposed expansion may allow additional vintners to use “San Francisco Bay” as an appellation of origin on their wine labels. Part 4 of the TTB regulations prohibits any label reference on a wine that indicates or implies an origin other than the wine's true place of origin. For a wine to be labeled with a viticultural area name or with a brand name that includes a viticultural area name or other term identified as viticulturally significant in part 9 of the TTB regulations, at least 85 percent of the wine must be derived from grapes grown within the area represented by that name or other term, and the wine must meet the other conditions listed in 27 CFR 4.25(e)(3). Different rules apply if a wine has a brand name containing a viticultural area name or other viticulturally significant term that was used as a brand name on a label approved before July 7, 1986. See 27 CFR 4.39(i)(2) for details.

Public Participation

Comments Invited

We invite comments from interested members of the public on whether we should expand the established San Francisco Bay viticultural area as proposed.

The currently proposed expansion area, TTB notes and petition-provided USGS maps confirm, lies in an area of southern Solano County, outside of the North Coast viticultural area boundary line. The proposed expansion area lies between the boundary lines of the North Coast and Central Coast viticultural areas.

In addition to receiving comments on the issues described above, we are interested in comments on the sufficiency and accuracy of the name, boundary, and other required information submitted in support of the petition.

Please provide any available specific information in support of your comments.

Submitting Comments

Submit your comments by the closing date shown above in this notice. Your comments must include this notice number and your name and mailing address. Your comments must be legible and written in language acceptable for public disclosure. We do not acknowledge receipt of comments, and we consider all comments as originals. You may submit comments in one of five ways:

• Mail: You may send written comments to TTB at the address listed in the ADDRESSES section.

• Facsimile: You may submit comments by facsimile transmission to 202-927-8525. Faxed comments must—

(1) Be on 8.5- by 11-inch paper;

(2) Contain a legible, written signature; and

(3) Be no more than five pages long. This limitation assures electronic access to our equipment. We will not accept faxed comments that exceed five pages.

• E-mail: You may e-mail comments to nprm@ttb.gov. Comments transmitted by electronic mail must—

(1) Contain your e-mail address;

(2) Reference this notice number on the subject line; and

(3) Be legible when printed on 8.5- by 11-inch paper.

• Online form: We provide a comment form with the online copy of this notice on our Web site at http://www.ttb.gov/wine/wine_rulemaking.shtml. Select the “Send comments via e-mail” link under this notice number.

• Federal e-Rulemaking Portal: To submit comments to us via the Federal e-rulemaking portal, visit http://www.regulations.gov and follow the instructions for submitting comments.

You may also write to the Administrator before the comment closing date to ask for a public hearing. The Administrator reserves the right to determine whether to hold a public hearing.

Confidentiality

All submitted material is part of the public record and subject to disclosure. Do not enclose any material in your comments that you consider confidential or inappropriate for public disclosure.

Public Disclosure

You may view copies of this notice, the petition, the appropriate maps, and any comments we receive by appointment at the TTB Information Resource Center at 1310 G Street, NW., Washington, DC 20220. You may also obtain copies at 20 cents per 8.5- × 11-inch page. Contact our information specialist at the above address or by telephone at 202-927-2400 to schedule an appointment or to request copies of comments.

We will post this notice and any comments we receive on this proposal on the TTB Web site. All name and address information submitted with comments will be posted, including e-mail addresses. We may omit voluminous attachments or material that we consider unsuitable for posting. In all cases, the full comment will be available in the TTB Information Resource Center. To access the online copy of this notice and the submitted comments, visit http://www.ttb.gov/wine/wine_rulemaking.shtml. Select the “View Comments” link under this notice number to view the posted comments.

Regulatory Flexibility Act

We certify that this proposed regulatory amendment, if adopted, would not have a significant economic impact on a substantial number of small entities. The proposed amendment imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866, 58 FR 51735. Therefore, it requires no regulatory assessment.

Drafting Information

N.A. Sutton of the Regulations and Rulings Division drafted this notice.

List of Subjects in 27 CFR Part 9

Wine.

Proposed Regulatory Amendment

For the reasons discussed in the preamble, we propose to amend 27 CFR, chapter 1, part 9, as follows:

PART 9—AMERICAN VITICULTURAL AREAS

1. The authority citation for part 9 continues to read as follows:

Authority: 27 U.S.C. 205.

Subpart C—Approved American Viticultural Areas

2. Section 9.157 is amended by revising the introductory text of paragraph (b), removing the word “and” at the end of paragraph (b)(42), replacing the period with a semicolon at the end of paragraph (b)(43), adding new paragraphs (b)(44) through (b)(47), revising the introductory text of paragraph (c) and paragraph (c)(24), redesignating paragraphs (c)(25) through (c)(38) as (c)(31) through (c)(44), and adding new paragraphs (c)(25) through (c)(30), to read as follows:

§ 9.157 San Francisco Bay.

* * * * *

(b) Approved Maps. The appropriate maps for determining the boundary of the San Francisco Bay viticultural area are 47 1:24,000 Scale USGS topographic maps. They are titled:

* * * * *

(44) Cuttings Wharf, Calif.; 1949; Photorevised 1981;

(45) Sears Point, Calif.; 1951; Photorevised 1968;

(46) Cordelia, Calif.; 1951; Photorevised 1980; and

(47) Fairfield South, Calif., 1949; Photorevised 1980.

(c) Boundary. The San Francisco Bay viticultural area is located mainly within five counties, San Francisco, San Mateo, Santa Clara, Alameda, and Contra Costa, which border the San Francisco Bay. The area also includes portions of three other counties, Solano, Santa Cruz, and San Benito, which are in the general vicinity of the greater San Francisco Bay metropolitan area. The boundary of the San Francisco Bay viticultural area is as described below.

* * * * *

(24) Then proceed west-southwest along the south shoreline of the Suisun Bay and the Carquinez Strait to its intersection with Interstate 680 at the Benicia-Martinez Bridge and BM 66, T3N/R2W, on the Vine Hill Quadrangle.

(25) Then proceed generally north following Interstate 680, crossing over and back on the Benicia Quadrangle map and continuing over the Fairfield South Quadrangle map, to its intersection with the Southern Pacific railroad track at Cordelia, Section 12, T4N/R3W, on the Cordelia Quadrangle map.

(26) Then proceed generally west along the Southern Pacific railroad track to its intersection with the Napa and Solano Counties boundary line in Jameson Canyon at Creston, Section 9, T4N/R3W, on the Cordelia Quadrangle map.

(27) Then proceed generally south-southeast, followed by straight west along the Napa and Solano Counties boundary line; continue straight west, crossing over the Cuttings Wharf Quadrangle map, to its intersection with the east shoreline of Sonoma Creek slough, which coincides with the Highway 37 bridge on the Solano County side of the creek, T4N/R5W, on the Sears Point Quadrangle.

(28) Then proceed generally southeast along the north and east shorelines of San Pablo Bay, also known as the San Pablo Bay National Wildlife Refuge, crossing over the Cuttings Wharf Quadrangle map, to its intersection with the Breakwater line, located within the Vallejo City boundaries and 0.7 mile west-southwest of the beacon, T3N/R4W, on the Mare Island Quadrangle.

(29) Then proceed 1.2 miles straight south-southwest to its intersection with the San Pablo Bay shoreline at BM 14, west of Davis Point, T3N/R4W, on the Mare Island Quadrangle.

(30) Then proceed generally south along the contiguous eastern shorelines of San Pablo Bay and San Francisco Bay, crossing over the Richmond and San Quentin Quadrangle maps, to its intersection with the San Francisco/Oakland Bay Bridge on the Oakland West Quadrangle.

* * * * *

Dated: November 28, 2006.
John J. Manfreda,
Administrator.

[FR Doc. E6-20504 Filed 12-4-06; 8:45 am]

BILLING CODE 4810-31-P